DEPARTMENT OF ENERGY

Federal Energy Regulatory Commission

[Docket No. CP08-11-000]

Tennessee Gas Pipeline Company; Notice of Application

October 29, 2007.

Take notice that on October 18, 2007, Tennessee Gas Pipeline Company (Tennessee), 180 East 100 South, Salt Lake City, Utah 84111, filed in Docket No. CP08-11-000, an application, pursuant to section 7 of the Natural Gas Act (NGA), for an order authorizing or approving a Payment-in-Lieu-of-Taxes transaction (PILOT Transaction) between Tennessee and the Schoharie County Industrial Development Agency (Agency) that would involve the lease and lease-back of certain property, including certificated facilities located in Schoharie County, New York. As described further in the application, the PILOT Transaction would give the Agency a passive interest in Tennessee's Schoharie County property and facilities solely for the purpose of effectuating a tax exemption for Tennessee. Approval and execution of PILOT Transaction would not effect jurisdictional services performed by Tennessee; would not allow the Agency to administer jurisdictional services; and would not require the addition, replacement, construction, or abandonment of any certificated facilities or capacity. Tennessee will retain complete ownership and operational control of its property and facilities, all as more fully set forth in the application which is on file with the Commission and open to public inspection. This filing may also be viewed on the Commission's Web site at http://www.ferc.gov using the “eLibrary” link. Enter the docket number, excluding the last three digits, in the docket number field to access the document. For assistance, call (202) 502-8659 or TTY, (202) 208-3676.

Any questions regarding this application should be directed to Kevin Erwin, Associate General Counsel, 1001 Louisiana, Houston Texas 77002, at (713) 420-1212

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: November 19, 2007.

Kimberly D. Bose,
Secretary.

[FR Doc. E7-21652 Filed 11-2-07; 8:45 am]

BILLING CODE 6717-01-P